DEPARTMENT OF HOMELAND SECURITY

Office of Operations Coordination; Homeland Security Information Network Advisory Council

AGENCY: Office of Operations Coordination, DHS.

ACTION: Committee Management; Request for Applicants for Appointment to the Homeland Security Information Network Advisory Council.

SUMMARY: The Office of Operations Coordination at the Department of Homeland Security is requesting individuals who are interested in serving on the Homeland Security Information Network Advisory Council (HSINAC) to apply for appointment. The HSINAC provides advice and makes recommendations to the leadership of the Department of Homeland Security, particularly the Director, Office of Operations Coordination, on the requirements of end users within State, Local, Federal and Tribal governments and the Private Sector regarding the Homeland Security Information Network (HSIN).

DATES: Applications for membership should reach the Department of Homeland Security at the address below on or before June 22, 2007.

ADDRESSES: If you wish to apply for membership, your application should be submitted by:

• E-mail: hsinac.comments@dhs.gov.

• Fax: 202-282-8191.

FOR FURTHER INFORMATION CONTACT: David Castillo, 202-282-9580.

SUPPLEMENTARY INFORMATION: The Homeland Security Information Network Advisory Committee is an advisory committee established in accordance with the provisions of the Federal Advisory Committee Act (FACA) 5 U.S.C. App. (Pub. L. 92-463).

HSINAC membership shall include not more than 20 representatives from State, Tribal and Local governments and the Private Sector, who are outstanding within their specialty field, and who have the experience to ensure the Director, and DHS leadership, is informed of the needs and requirements of the information network users and communities of users. Members will be drawn from currently serving Homeland Security Advisors; State, Tribal, or Local Law Enforcement; Federal Law Enforcement; the Fire Service; Public Health; Emergency Managers; and, the Private Sector.

The committee will convene no more than twice per year. Travel and per diem will be provided by the Department. Term length shall generally be 3 years. The initial members of the HSINAC shall be appointed to terms of office of 2, 3, and 4 years in order to promote continuity and an orderly turnover of committee membership.

A security clearance is preferred, but is not a requirement for appointment to the committee. Those applicants who do not have a security clearance may be required to undergo a background investigation.

HSINAC members will be appointed as Special Government Employees (SGEs) as such term is defined for purposes of 18 U.S.C. 202(a). Appointments will be made by the Department of Homeland Security Secretary who will receive recommendations from the Office of Operations Coordination Director.

As candidates for appointment as SGEs, applicants are required to complete Confidential Financial Disclosure Reports (OGE Form 450). DHS may not release the reports or the information in them to the public except under an order issued by a Federal court or as otherwise provided under the Privacy Act (5 U.S.C. 552a). Applicants can obtain this form by going to the Web site of the Office of Government Ethics (http://www.oge.gov), or by contacting David Castillo at the number listed above. Applications which are not accompanied by a completed OGE Form 450 will not be considered.

In support of the policy of the Department of Homeland Security on gender and ethnic diversity, qualified women and minorities are encouraged to apply for membership.

Dated: April 30, 2007.
Roger Rufe, Jr.,
Director, Office of Operations Coordination, U.S. Department of Homeland Security.

[FR Doc. E7-8739 Filed 5-7-07; 8:45 am]

BILLING CODE 4410-10-P